DEPARTMENT OF TRANSPORTATION

Federal Aviation Administration

14 CFR Part 73

[Docket No. FAA-2007-27850; Airspace Docket No. 07-ASO-5]

RIN 2120-AA66

Amendment to Restricted Areas R-3702A and R-3702B; Fort Campbell, KY

AGENCY: Federal Aviation Administration (FAA), DOT.

ACTION: Final rule.

SUMMARY: This action amends the designated altitudes of restricted areas R-3702A and R-3702B, Fort Campbell, KY, to revise the internal altitude boundary separating the two restricted areas. This change is necessary to better accommodate training requirements and provide greater access to the airspace for nonparticipating aircraft flying through the area above 10,000 feet MSL.

EFFECTIVE DATE: 0901 UTC, October 25, 2007.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

History

On April 26, 2007, the FAA published in the Federal Register a notice of proposed rulemaking to amend R-3702A and R-3702B at Fort Campbell, KY (72 FR 20787). Interested parties were invited to participate in this rulemaking effort by submitting written comments on the proposal to the FAA. No comments objecting to the proposal were received. With the exception of editorial changes, this amendment is the same as that proposed in the notice of proposed rulemaking.

Section 73.37 of 14 CFR part 73 was published in the FAA Order 7400.8N, Special Use Airspace, dated February 16, 2007. The restricted area listed in this document will be published subsequently in the Order.

The Rule

This action amends Title 14 Code of Federal Regulations (14 CFR) part 73 to realign the designated altitudes separating restricted areas R-3702A and R-3702B at Fort Campbell, KY. This rule changes the designated altitudes for R-3702A from “surface to 6,000 feet MSL,” to “surface to 10,000 feet MSL.” In addition, the designated altitudes for R-3702B are changed from “6,000 feet MSL to FL 220,” to “10,000 feet MSL to FL 220.” This change will allow Fort Campbell to conduct hazardous activities that do not exceed 10,000 feet MSL without unnecessarily restricting the airspace up to FL 220. This change also allows air traffic control to provide better service to nonparticipating aircraft in the area.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has reviewed the above referenced action according to Department of Transportation Order 5610.1C, “Procedures for Considering Environmental Impacts” and FAA Order 1050.1E, “Environmental Impacts: Policies and Procedures.” In accordance with FAA Order 1050.1E paragraphs 311d and 401p(5) it is determined that the action qualifies for categorical exclusion from further environmental review. Additionally, the implementation of this action will not result in any extraordinary circumstances in accordance with Order 1050.1E paragraph 304. Therefore, on July 27, 2007 the FAA issued a categorical exclusion declaration for the change in the internal boundaries for R-3702A and R-3702B.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.37 [Amended]

2. Section 73.37 is amended as follows:

* * * * *

R-3702A Fort Campbell, KY [Amended]

Under Designated altitudes, by removing the words “Surface to 6,000 feet MSL,” and inserting the words “Surface to 10,000 feet MSL.”

* * * * *

R-3702B Fort Campbell, KY [Amended]

Under Designated altitudes, by removing the words “6,000 feet MSL to FL 220,” and inserting the words “10,000 feet MSL to FL 220.”

* * * * *

Issued in Washington, DC, on August 6, 2007.
Edith V. Parish,
Manager, Airspace and Rules Group.

[FR Doc. E7-15747 Filed 8-10-07; 8:45 am]

BILLING CODE 4910-13-P